DEPARTMENT OF DEFENSE

Department of the Army; Corps of Engineers

Notice of Intent To Prepare an Environmental Impact Statement for the Missouri River Authorized Purposes Study, Missouri River Basin, United States

AGENCY: Department of the Army, U.S. Army Corps of Engineers, DoD.

ACTION: Notice of intent.

SUMMARY: Pursuant to Division C, Title I, Section 108 of the Omnibus Appropriations Act of 2009 (Pub. L. 111-8), and the National Environmental Policy Act of 1969 (NEPA), as amended, the U.S Army Corps of Engineers (USACE) Omaha and Kansas City Districts intend to conduct the Missouri River Authorized Purposes Study (MRAPS). The study is anticipated to produce a comprehensive feasibility-type report with an integrated Environmental Impact Statement (EIS).

Public Law 111-8 authorizes the USACE to review the original project purposes within the Missouri River Basin based on the Flood Control Act of 1944, as amended, and other-subsequent relevant legislation and judicial rulings to determine if changes to the authorized project purposes and existing federal water resource infrastructure may be warranted. The authorized Missouri River project purposes are: fish and wildlife, flood control, irrigation, navigation, power, recreation, water quality, and water supply.

Public scoping for the MRAPS will begin in late May 2010. Future public notices will identify how written comments and suggestions concerning the study may be submitted. Please see http://www.mraps.org and the Scoping and Public Involvement section below for additional information.

FOR FURTHER INFORMATION CONTACT: For further information and/or questions about the MRAPS, please contact Mr. Mark Harberg, Project Manager, by telephone: (402) 995-2554, by mail: 1616 Capitol Avenue, Omaha, Nebraska 68102-4901, or by e-mail: mark.c.harberg@usace.army.mil, or Lamar McKissack, Project Manager, by telephone (816) 389-3115, by mail: 601 East 12th Street, Kansas City, Missouri 64106, or by e-mail: grady.l.mckissack@usace.army.mil. For inquiries from the media, please contact the USACE Omaha District Public Affairs Officer (PAO), Mr. Paul Johnston by telephone: (402) 995-2416, by mail: 1616 Capitol Avenue, Omaha, Nebraska 68102, or by e-mail: paul.t.johnston@usace.army.mil.

SUPPLEMENTARY INFORMATION: 1. Description of Proposed Study. Encompassing an area of approximately 530,000 square miles and a number of governing entities including ten states, two Canadian provinces, and 28 Native American tribes, the Missouri River Basin is the second largest river basin in the United States. From its source at Three Forks, Montana, the Missouri River flows east and southeast for a total of 2,341 miles before emptying into the Mississippi River, just north of St. Louis, Missouri, making it the longest river in the United States. The Missouri River passes through a variety of physiographic provinces, provides habitat to diverse populations of flora and fauna, contains important cultural resources, and supports a variety of human uses. Due to its geographic scale and diversity, the management of the Missouri River falls under a variety of USACE authorities and programs as well as programs and authorities of other agencies.

Major human alterations to the Missouri River began as early as the late 1800s with the removal of snags to improve navigation. River alterations continued into the twentieth century. At the direction of Congress, the USACE enhanced navigation, built dams, and regulated river flows. Simultaneously, land use changes affecting the River's floodplain occurred creating a system very different from its pre-alteration condition. Managing today's altered Missouri River is a complex task due to competing demands from a variety of different uses. The past two decades have produced a great deal of debate among Basin stakeholders on how to best manage the River's resources.

The 1944 Flood Control Act, as amended, and subsequent legislation have directed the USACE to allocate the River's resources among the authorized Missouri River project purposes; which are: Fish and wildlife, flood control, irrigation, navigation, power, recreation, water quality, and water supply. Section 108 of the Energy and Water Development Section of the FY09 Omnibus Appropriations Act provides the USACE authorization to study the Missouri River projects located within the Missouri River Basin to review the original authorized project purposes to determine if changes to the project purposes and existing Federal water resource infrastructure may be warranted. The study authorized by Section 108 will be referred to as the Missouri River Authorized Purposes Study (MRAPS). The MRAPS is a broad-based multi-purpose study that is anticipated to culminate in a comprehensive feasibility-type report with an integrated EIS. The MRAPS will be conducted in accordance with NEPA and with the “Principles and Guidelines for Water and Related Land Resource Implementation Studies” (Water Resource Council, 1983).

The scope of the MRAPS will be limited to review of the original authorized project purposes within the Missouri River Basin and will include a review of other Federal water resource infrastructure related thereto, such as those projects that are dependent on USACE operations or are covered by an operational agreement with the USACE. The MRAPS will evaluate the study area as a comprehensive system of projects, infrastructure, and natural resources providing a detailed review of the existing project purposes and conditions, evaluation of the current needs and problems within the study area, and could lead to consideration of operational and/or infrastructure alternatives.

2. Scoping and Public Involvement Process. The MRAPS will include multiple phases of public, agency, and tribal government involvement. The first official phase of public scoping will be conducted throughout the Basin from late May 2010 through late August 2010, and will seek input on problems, opportunities, and constraints related to the existing authorized purposes and gather general concerns, issues, and needs related to the study. This scoping period plans for 29 public scoping meetings and 11 tribal focused public scoping meetings. Specific locations and dates of these meetings will be officially announced through electronic media, news releases, and mailings. Additional public meetings and involvement will take place throughout the study. For more information on scoping phases, dates, meeting locations, and general information, please visit http://www.mraps.org.

3. Significant Issues. Issues associated with the proposed study are likely to include, but will not be limited to: existing infrastructure and resource conditions; statutory and legal responsibilities including relevant court decisions; effects of potential alternatives on uses including, but not necessarily limited to: flood control, navigation, fish and wildlife, irrigation, power, recreation, water supply, and water quality control; defining the relationship with current USACE programs including the Missouri River Recovery Program (MRRP), Missouri River Ecosystem Restoration Plan (MRERP), and the Bank Stabilization and Navigation Project (BSNP); and analysis of effects to the Mississippi River from potential actions or alternatives that are examined in the Missouri River Basin.

4. Additional Review and Consultation. Additional public, scientific, and statutory review and consultation could include, but will not be limited to: The Clean Water Act, the Fish and Wildlife Coordination Act, the National Historic Preservation Act, the Endangered Species Act, and the Clean Air Act.

5. Availability of the Draft Environmental Impact Statement. Availability of the Draft EIS is contingent upon allocation of funding as the study progresses. Draft EIS availability will be announced to the public in the Federal Register in compliance with 40 CFR 1506.9 and 1506.10.

Dated: April 6, 2010.
Kayla Eckert Uptmor,
Chief Planning Branch, Omaha District.
Dated: April 7, 2010.
David L. Combs,
Chief Planning Branch, Kansas City District.

[FR Doc. 2010-8729 Filed 4-15-10; 8:45 am]

BILLING CODE 3720-58-P